DEPARTMENT OF DEFENSE

Office of the Secretary

Strategic Environmental Research and Development Program, Scientific Advisory Board; Notice of Federal Advisory Committee Meeting

AGENCY: Department of Defense.

ACTION: Notice.

SUMMARY: Under the provisions of the Federal Advisory Committee Act of 1972 (5 U.S.C. Appendix, as amended), the Government in the Sunshine Act of 1976 (5 U.S.C. 552b, as amended), and 41 CFR 102-3.150, the Department of Defense announces an open meeting of the Strategic Environmental Research and Development Program, Scientific Advisory Board (SAB). This notice is published in accordance with Section 10(a)(2) of the Federal Advisory Committee Act (Pub. L. 92-463).

DATES: Wednesday, September 11, 2013, from 9:00 a.m. to 5:00 p.m. and Thursday, September 12, 2013, from 9:00 a.m. to 4:25 p.m.

ADDRESSES: Potomac Institute for Policy Studies, 901 North Stuart Street, Suite 200, Arlington, VA 22203.

FOR FURTHER INFORMATION CONTACT: Mr. Jonathan Bunger, SERDP Office, 4800 Mark Center Drive, Suite 17D08, Alexandria, VA 22350-3600; or by telephone at (571) 372-6384.

SUPPLEMENTARY INFORMATION: Pursuant to 5 U.S.C. 552b and 41 CFR 102-3.140 through 102-3.165, and the availability of space, this meeting is open to the public. Seating is on a first-come basis.

The purpose of the September 11-12, 2013 meeting is to review new start research and development projects requesting Strategic Environmental Research and Development Program funds in excess of $1 million over the proposed length of the project as required by the SERDP Statute, U.S. Code—Title 10, Subtitle A, Part IV, Chapter 172, § 2904. The full agenda follows:

Wednesday, September 11, 2013
9:00 a.m | Convene/Opening Remarks Approval of June 2013 Minutes | Mr. Joseph Francis, Chair.
9:10 a.m | Program Update | Dr. Anne Andrews, Acting Executive Director.
9:25 a.m | Unexploded Ordnance Workshop and Munitions Response Overview | Dr. Herb Nelson, Munitions Response Program Manager.
9:55 a.m | 14 MR01-007 (MR-2409): Empirical Investigation of the Factors Influencing Marine Applications of EMI (FY14 New Start) | Dr. Thomas Bell, SAIC, Arlington, VA.
10:40 a.m | Break
10:55 a.m | 14 MR01-006 (MR-2408): Finite Element Modeling of Scattering from Underwater Proud and Buried Military Munitions (FY14 New Start) | Dr. Ahmad Abawi, Heat, Light, and Sound Research, Inc., La Jolla, CA.
11:40 a.m | Chlorinated Solvents Workshop | Dr. Andrea Leeson, Environmental Restoration Program Manager.
12:00 p.m | Lunch
1:00 p.m | Environmental Restoration Overview | Dr. Andrea Leeson, Environmental Restoration Program Manager.
1:10 p.m | 14 ER01-018 (ER-2419): High Resolution Delineation of Contaminant Concentrations, Biogeochemical Processes, and Microbial Communities in Saturated Subsurface Environments (FY14 New Start) | Dr. William Jackson, Texas Tech University, Lubbock, TX.
1:55 p.m | 14 ER01-037 (ER-2420): A High Resolution Passive Flux Meter Approach Based on Colorimetric Responses (FY14 New Start) | Dr. Michael Annable, University of Florida, Gainesville, FL.
2:40 p.m | Break
2:55 p.m | 14 ER01-039 (ER-2421): Investigating the Sensitivity of Emerging Geophysical Technologies to Immobile Porosity and Isolated DNAPL and Dissolved/Sorbed VOC Mass in Fractured Media (FY14 New Start) | Dr. Lee Slater, Rutgers University-Newark, Newark, NJ.
3:40 p.m | Environmental Restoration Overview | Dr. Andrea Leeson, Environmental Restoration Program Manager.
3:50 p.m | 14 ER05-001 (ER-2217): Robust Antifouling Membranes for Sustainable Wastewater Treatment by Forward Osmosis in FOBs (FY14 Follow-On) | Dr. Menachem Elimelech, Yale University, New Haven, CT.
4:35 p.m | Strategy Session | Dr. Anne Andrews, Acting Executive Director.
5:00 p.m | Public Discussion/Adjourn for the day
Thursday, September 12, 2013
9:00 a.m | Convene | Mr. Joseph Francis, Chair.
9:10 a.m | Weapons Systems and Platforms Overview | Dr. Robin Nissan, Weapons Systems and Platforms Program Manager.
9:20 a.m | 14 WP02-003 (WP-2402): Novel Chemistries for Replacement of Methylene Dianiline in Polyimide Composites (FY14 New Start) | Dr. John La Scala, Army Research Laboratory, Aberdeen Proving Ground, MD.
10:05 a.m | Break
10:20 a.m | Resource Conservation and Climate Change Overview | Dr. John Hall, Resource Conservation and, Climate Change, Program Manager.
10:30 a.m | 14 RC01-008 (RC-2432): The Impact of Non-Native Predators on Pollinators and Native Plant Pollination Services: a Case Study in an Invaded Dryland Hawaiian Ecosystem (FY14 New Start) | Dr. Christina Liang, USDA Forest Service, Hilo, HI.
11:15 a.m | 14 RC01-009 (RC-2433): Recovery of Native Plant Communities and Ecological Processes Following Removal of Non-Native, Invasive Ungulates from Pacific Island Forests (FY14 New Start) | Dr. Creighton Litton, University of Hawaii at Manoa, Honolulu, HI.
12:00 p.m | Lunch
1:00 p.m | 14 RC01-015 (RC-2434): Seed Dispersal Networks and Novel Ecosystem Functioning in Hawaii (FY14 New Start) | Dr. Jeffrey Foster, Northern Arizona University, Flagstaff, AZ.
1:45 p.m | Resource Conservation and Climate Change Overview | Dr. John Hall, Resource Conservation and, Climate Change, Program Manager.
1:55 p.m | 14 RC02-005 (RC-2435): Effect of Arctic Amplification on Design Snow, Loads in Alaska (FY14 New Start) | Ms. Kathleen Jones, Cold Regions Research and Engineering Laboratory, Hanover, NH.
2:40 p.m | Break
2:55 p.m | 14 RC02-017 (RC-2436): Improving Design Methodologies and Assessment Tools for Building on Permafrost in a Warming Climate (FY14 New Start) | Mr. Kevin Bjella, Cold Regions Research and, Engineering Laboratory , Ft. Wainwright, AK.
3:40 p.m | 14 RC02-020 (RC-2437): Developing Smart Infrastructure for a Changing Arctic Environment using Distributed Fiber-Optic Sensing Methods, (FY14 New Start) | Dr. Jonathan Ajo-Franklin, Lawrence Berkeley National Laboratory, Berkeley, CA.
4:25 p.m | Public Discussion/Adjourn

Pursuant to 41 CFR 102-3.105(j) and 102-3.140, and section 10(a)(3) of the Federal Advisory Committee Act of 1972, the public or interested organizations may submit written statements to the Strategic Environmental Research and Development Program, Scientific Advisory Board. Written statements to the committee may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://facasms.fido.gov/.

Time is allotted at the close of each meeting day for the public to make comments. Oral comments are limited to 5 minutes per person.

Dated: August 16, 2013.
Aaron Siegel,
Alternate OSD Federal Register Liaison Officer, Department of Defense.

[FR Doc. 2013-20397 Filed 8-20-13; 8:45 am]

BILLING CODE 5001-06-P